DEPARTMENT OF ENERGY

Federal Energy Regulatory Commission

[Docket No. RP02-515-001]

Texas Gas Transmission Corporation; Notice of Compliance Filing

January 16, 2003.

Take notice that on November 20, 2002, Texas Gas Transmission Corporation (Texas Gas) tendered for filing detailed responses to matters discussed in Ordering Paragraph B of the Commission's October 31, 2002, order. The order accepted and suspended a tariff sheet filed by Texas Gas on August 30, 2002, which reflected its annual adjustment to be fuel retention percentages subject to refund and conditions and further review.

Texas Gas states that copies of its filing are being mailed to all parties on the service list in this docket.

Any person desiring to protest said filing should file a protest with the Federal Energy Regulatory Commission, 888 First Street, NE., Washington, DC 20426, in accordance with section 385.211 of the Commission's rules and regulations. All such protests must be filed in acordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 23, 2003.

Magalie R. Salas,
Secretary.

[FR Doc. 03-1511 Filed 1-22-03; 8:45 am]

BILLING CODE 6717-01-P